DEPARTMENT OF TRANSPORTATION

Federal Railroad Administration

[Docket No. FRA-2018-0008-N-9]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before January 14, 2019.

ADDRESSES: Submit written comments on the ICRs activities by mail to either: Mr. Robert Brogan, Information Collection Clearance Officer, Office of Railroad Safety, Regulatory Analysis Division, RRS-21, Federal Railroad Administration, 1200 New Jersey Avenue SE, Room W33-497, Washington, DC 20590; or Ms. Kim Toone, Information Collection Clearance Officer, Office of Information Technology, RAD-20, Federal Railroad Administration, 1200 New Jersey Avenue SE, Room W34-212, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE, Room W33-497, Washington, DC 20590 (telephone: (202) 493-6292) or Ms. Kim Toone, Information Collection Clearance Officer, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations require. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: State Safety Participation Regulations and Reporting of Remedial Actions.

OMB Control Number: 2130-0509.

Abstract: The collection of information is set forth under 49 CFR part 212, and requires qualified state inspectors to provide various reports to FRA for monitoring and enforcement purposes concerning state investigative, inspection, and surveillance activities regarding railroad compliance with Federal railroad safety laws and regulations. Additionally, under 49 CFR part 209, subpart E, railroads are required to report to FRA actions taken to remedy certain alleged violations of law.

Form Number(s): FRA F 6180.33/61/67/96/96A/109/110/111/112/144.

Affected Public: Businesses.

Respondent Universe: States and Railroads.

Frequency of Submission: On occasion.

Reporting Burden
CFR section | Respondent universe | Total annual responses | Average time per response | Total annual burden hours | Burden hours dollar equivalent cost ¹
Application for Participation | 16 States | 16 updates | 2.5 hours | 40 | $2,960
State Railroad Technical Training Funding Agreement | 32 States | 32 agreements | 1 hour | 32 | 2,368
Inspector Travel Planning and Reimbursement | 32 States | 400 vouchers | 1 hour | 400 | 29,600
212.109—Annual Work Plan | 32 States | 1,862 reports | 5 hours | 9,310 | 688,940
Inspection Form (FRA F 6180.96) | 32 States | 69,885 forms | 15 minutes | 17,471 | 1,292,854
Violation Report—Motive, Power, and Equipment Regulations (Form FRA F 6180.109) | 19 States | 1,862 reports | 4 hours | 7,448 | 551,152
Violation Report—Operating Practices Regulations (Form FRA F 6180.67) | 19 States | 868 reports | 4 hours | 3,472 | 256,928
Violation Report—Hazardous Materials Regulations (Form FRA F 6180.110) | 17 States | 856 reports | 4 hours | 3,424 | 253,376
Violation Report—Hours of Service Law (F 6180.33) | 19 States | 103 reports | 4 hours | 412 | 30,488
Violation Report—Accident/Incident Reporting Rules (Form FRA F 6180.61) | 19 States | 146 reports | 4 hours | 584 | 43,216
Violation Report—Track Safety Regulations (Form FRA F 6180.111) | 26 States | 667 reports | 4 hours | 2,668 | 197,432
Violation Report—Signal and Train Control Regulations (Form FRA F 6180.112) | 14 States | 440 reports | 4 hours | 1,760 | 130,240
209.405—Remedial Actions Reports | 566 Railroads | 4,050 reports | 15 minutes | 1,013 | 74,962
209.407—Violation Report Challenge | 566 Railroads | 810 challenges | 1 hour | 810 | 59,940
209.407—Delayed Reports | 695 Railroads | 405 reports | 30 minutes | 203 | 15,022
¹ To determine the dollar equivalent cost for the estimated burden hours under OMB No. 2130-0509, FRA used an average hourly wage rate of $74. FRA derived this estimate from Bureau of Labor Statistics (BLS) data for management occupations, NAICS 99920—State Government, excluding schools and hospitals (OES Designation). To calculate the mean hourly wage of $42.17 for this category of workers, FRA included a 75-percent charge for overhead costs. The calculation is $42.17 per hour × 1.75 = $73.7975 or $74 per hour (rounded). The Web address for this data is: https://www.bls.gov/oes/current/naics4_999200.htm#11-0000.

Total Estimated Annual Responses: 82,402.

Total Estimated Annual Burden: 49,047 hours.

Total Estimated Annual Burden Hour Dollar Cost Equivalent: $3,629,478.

Title: Use of Locomotive Horns at Highway-Rail Grade Crossings.

OMB Control Number: 2130-0560.

Abstract: Under 49 CFR part 222, FRA seeks to collect information from railroads and public authorities in order to increase safety at public highway-rail grade crossings nationwide by requiring that locomotive horns be sounded when trains approach and pass through these crossings or by ensuring that a safety level at least equivalent to that provided by routine locomotive horn sounding exists for quiet zone corridors in which horns are silenced. FRA reviews applications by public authorities intending to establish new quiet zones or, in some cases, continue pre-rule quiet zones to ensure the necessary level of safety is achieved.

Form Number(s): N/A.

Affected Public: Businesses.

Respondent Universe: 728 railroads/340 Public Authorities.

Frequency of Submission: On occasion.

CFR section | Respondent universe | Total annual responses | Average time per response | Total annual burden hours | Burden hours dollar equivalent cost
222.15—Waiver Petitions | 784 Railroads/531 Public Authorities | 2 petitions | 4 hours | 8 | $584
222.39—Applications to Establish Quiet Zone | 531 Public Authorities | 15 applications | 80 hours | 1,200 | 88,800
—Diagnostic Team Review | 531 Public Authorities | 3 team reviews | 16 hours | 48 | 3,504
—Updated Crossing Inventory Forms | 531 Public Authorities | 75 updated forms | 1 hour | 75 | 5,550
—Copies of Quiet Zone Application | 531 Public Authorities | 90 copies | 10 minutes | 15 | 1,110
—Comments to FRA on Quiet Zone Application | 784 Railroads/State Agencies | 30 comments | 1.5 hours | 45 | 3,285
222.43—Written Notice of Public Authority Intent to Create New Quiet Zone and Notification to Required Parties | 216 Communities/Public Authorities | 60 notices + 180 notifications | 40 hours + 10 minutes | 2,430 | 179,820
—Updated Crossing Inventory Forms | 216 Communities | 300 updated forms | 1 hour | 300 | 22,200
—Comments on proposed Quiet Zone | 784 Railroads/State Agencies | 120 comments | 4 hours | 480 | 35,040
—Notice of Quiet Zone Establishment + Notification to Required Parties | 531 Public Authorities | 60 notices + 360 notifications | 40 hours + 10 minutes | 2,460 | 182,040
—Updated Crossing Inventory Forms | 531 Public Authorities | 300 updated forms | 1 hour | 300 | 22,200
—Certification by CEO of Public Authority Regarding Accuracy of Information | 531 Public Authorities | 60 certifications | 5 minutes | 5 | 370
222.47—Periodic Updates: Written Affirmation that Supplementary Safety Measures Implemented w/in Quiet Zone Conform to Rule or Terms of Approval | 531 Public Authorities | 213 written affirmations + 1,278 copies (to required parties) | 30 minutes + 2 minutes | 150 | 11,100
—Updated Crossing Inventory Forms | 531 Public Authorities | 810 updated forms | 1 hour | 810 | 59,940
222.51—Written Commitment to Lower Risk to Traveling Public in Quiet Zones Exceeding Nationwide Significant Risk Threshold | 15 Public Authorities | 10 written commitments | 5 hours | 50 | 3,700
—Comments Upon FRA Review of Quiet Zone Status | 3 Public Authorities | 2 comments | 30 minutes | 1 | 74
222.55—Request for FRA Approval of New Supplementary Safety Measures/Alternative Safety Measures (ASMs) for Quiet Zone | 265 Interested Parties/ | 1 letter | 30 minutes | 1 | 74
—Comments on New SSMs or ASMs | 265 Interested Parties/General Public | 5 comments | 30 minutes | 3 | 222
—Request for SSM/ASM Approval -Demo | 265 Interested Parties | 1 letter | 30 minutes | 1 | 74
222.57—Petition for FRA Review of Decision Granting or Denying a New SSM or ASM; Petition Copies to Relevant Parties | 531 Public Authorities/Interested Parties | 1 petition + 5 petition copies | 60 minutes + 2 minutes | 1 | 74
—Request for FRA Reconsideration of Disapproval of Quiet Zone + Party Copies | 531 Public Authorities | 1 letter + 6 letter copies | 5 hours + 2 minutes | 5 | 370
—Additional Documents to FRA as Follow-up to Petition for Reconsideration | 531 Public Authorities | 1 additional document/set of materials | 2 hours | 2 | 148
—Letter Requesting FRA Informal Hearing | 531 Public Authorities | 1 letter | 30 minutes | 1 | 74
222.59—Written Notice of Use of Wayside Horn at Grade Crossing within Quiet Zone + Party Copies | 531 Public Authorities | 5 notices + 30 notice copies | 2.5 hours + 10 minutes | 18 | 1,332
—Notice of Wayside Horn Outside Quiet Zone | 531 Public Authorities | 5 notices + 30 notice copies | 2.5 hours + 10 minutes | 18 | 1,332
Appendix B—Public Authority Record Relating to Monitoring and Sampling Efforts at Grade Crossing in Quite Zone with Programmed Enforcement | 531 Public Authorities | 1 record | 500 hours | 500 | 37,000
—Public Authority Record Relating to Monitoring and Sampling Efforts at Grade Crossing in Quite Zone with Photo Enforcement | 531 Public Authorities | 1 record | 9 hours | 9 | 666
222.129—Written Reports/Records of Locomotive Horn Testing | 784 Railroads | 300 reports/records | 60 minutes | 300 | 21,900

Total Estimated Responses: 4,362.

Total Estimated Annual Burden: 9,236 hours.

Total Estimated Annual Burden Hour Dollar Cost Equivalent: $681,983.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Juan D. Reyes III,
Chief Counsel.

[FR Doc. 2018-24716 Filed 11-13-18; 8:45 am]

BILLING CODE 4910-06-P